DEPARTMENT OF AGRICULTURE

Office of the Secretary

Notice of the Research, Education, and Economics Task Force Meeting

AGENCY: Research, Education, and Economics, USDA.

ACTION: Notice of meeting.

SUMMARY: In accordance with the Federal Advisory Committee Act, 5 U.S.C. App., the United States Department of Agriculture announces a meeting of the Research, Education, and Economics Task Force.

DATES: The Research, Education, and Economics Task Force will meet on October 27, 2003.

The public may file written comments before or up to two weeks after the meeting with the contact person.

ADDRESSES: On October 27, the meeting will take place at the Holiday Inn—Washington on the Hill, 415 New Jersey Ave., NW., Washington, DC 20001.

Written comments from the public may be sent to the Contact Person identified in this notice at: The Research, Education, and Economics Task Force; Office of the Under Secretary, Room 214-W, Jamie L. Whitten Building, United States Department of Agriculture, 1400 Independence Ave., SW., Washington, DC 20250.

FOR FURTHER INFORMATION CONTACT: Kathryn Boots, Executive Director, Research, Education, and Economics Task Force; telephone: (202) 690-0826; fax: (202) 690-2842; or email: katie.boots@usda.gov.

SUPPLEMENTARY INFORMATION: On Monday, October 27, 2003, the Research, Education, and Economics Task Force will hold a general meeting at The Holiday Inn—Washington on the Hill. The Task Force will continue its evaluation of the merits of establishing one or more National Institutes focused on disciplines important to the progress of food and Agricultural science. In the morning there will be welcoming remarks made by the Chairman of the Task Force, Dr. William Danforth, Chancellor Emeritus, Vice Chairman, Board of Trustees, Washington University in St. Louis, as well as the USDA Under Secretary for Research, Education, and Economics (REE), Dr. Joseph J. Jen. Welcoming remarks will be followed by a discussion about plans for subsequent Task Force meetings; an account of consultations made since the July 31 Task Force meeting; examination of the scope of the REE Task Force Report; characteristics of what an NIH—like institute for agriculture would include; structuring support for such an institute; and preparation for the next Task Force meeting. The Task Force Meeting will adjourn on Monday, October 27 around 4 p.m. This meeting is open to the public. Due to a delay, this notice could not be published at least 15 days prior to the meeting date. The meeting will be held as scheduled because of the significant sacrifice rescheduling would require of Task Force members who have adjusted their schedules to accommodate the proposed meeting date. Written comments for the public record will be welcomed before and up to two weeks following the Task Force meeting (by close of business Monday, November 10, 2003).

All statements will become part of the official record of the Research, Education, and Economics Task Force and will be kept on file for public review in the Office of the Under Secretary for Research, Education, and Economics.

Done at Washington, DC this 15th day of October 2003.
Joseph J. Jen,
Under Secretary, Research, Education, and Economics.

[FR Doc. 03-26523 Filed 10-20-03; 8:45 am]

BILLING CODE 3401-03-P